DEPARTMENT OF AGRICULTURE

Forest Service

Apache-Sitgreaves and Tonto National Forests Rodeo/Chediski Fire Salvage and Rehabilitation Project

AGENCY: Forest Service, USDA.

ACTION: Notice of intent to prepare an environmental impact statement.

SUMMARY: The Apache-Sitgreaves and Tonto National Forests of the Southwestern Region of the Forest Service are planning to prepare an environmental impact statement (EIS) on a proposal to salvage fire-killed timber on National Forest System lands within the Rodeo/Chediski Fire on June 2002. The EIS is intended to foster informed decision-making and public participation of a site-specific proposal to improve or maintain post-fire ecological functions of the land.

DATES: Comments concerning the scope of the analysis must be received by November 15, 2002. The draft environmental impact statement is expected February 15, 2003 and the final environmental impact statement is expected July 1, 2003.

ADDRESSES: Send written comments to the Rodeo/Chediski Salvage and Rehabilitation Project, Attn: Merle Glenn, Public Affairs Specialist, P.O. Box 569, Overgaard, AZ 85933. For further information, mail correspondence to the same address as listed above.

FOR FURTHER INFORMATION CONTACT: Jimmy E. Hibbetts, ID Team Leader, for the Rodeo/Chediski Salvage and Rehabilitation Project at (928) 535-5979.

SUPPLEMENTARY INFORMATION: The Rodeo/Chediski Fire burned over 460,000 acres of forested lands, including over 176,000 acres of Apache-Sitgreaves and Tonto National Forest System lands. Over 470 structures were destroyed in the fire, which threatened 30 communities and subdivisions. Over 225 miles of heavily traveled system roads and 107 miles of trails received damage. This fire killed millions of trees with an estimated volume of over 300 million board feet of commercial timber, which represent serious short and long-term hazards to users of the two national forests, adjacent local communities and subdivisions, and remaining forest resources. Hazards from burned trees include falling dead trees and potential fuel loadings. Another hazard associated with burn areas relates to flash flooding, which has a great potential to affect public health and safety. Treatments are being considered to meet public health and safety concerns with considerations for other resources.

Area watersheds with denuded slopes are susceptible to erosion and can lead to reduced soil productivity, loss of vegetation regeneration potential and increased downstream flooding and sedimentation. All watersheds are being analyzed within the burn area for potential damages to downstream resources. Both Black Canyon Lake and Canyon Creek have been heavily impacted by sedimentation and debris resulting from the fire. Utilizing dead trees and slash from treatment activities is being considered to improve watershed conditions by creating protective ground cover and providing ground shade to re-establish vegetation.

Purpose and Need for Action: Due to the intensity, magnitude and size of the fire, there is a tremendous amount of standing dead and dying trees within the burn. Portions of the burned area now pose a potential risk to forest users, communities, private property and remaining resources. These risks include the hazards of falling trees, erosion and flooding, future wildfires occurring in the wildland/urban interface, impacts to wildlife and fish and their habitats, and insect infestation to remaining live trees. Urgent action is needed to recover fire-killed timber while it still has economic value. If completed within 18 months after the burn, the substantial cost of removing these trees can be offset by the commercial sale of wood products.

Proposed Action: Salvage dead trees while maintaining or improving watershed conditions with considerations for wildlife and fisheries. Burn severity, slope and specific resource needs will determine actual treatments. Forest Plan standards will be adhered to for all resources and activities. Treatments will also consider lowering visual impacts along Highway 260 and to private lands. On existing system roads, repair, reconstruct, realign, resurface and construct additional turnouts where needed. There will be no new permanent road construction. Close and obliterate unneeded roads once salvage operations have been completed.

Possible Alternatives: Preliminary alternatives may include continuation of present situation (no action alternative) and alternatives to meet the purpose and need of the proposed action.

Responsible Officials: The Forest Supervisors for the Apache-Sitgreaves and Tonto National Forests are jointly responsible for deciding whether or not to salvage dead trees resulting from the Rodeo/Chediski Fire. They are: John C. Bedell, Forest Supervisor, Apache-Sitgreaves National Forest, P.O. Box 640, Springerville, AZ 85938-0640 and Karl P. Siderits, Forest Supervisor, Tonto National Forest, 2324 E. McDowell Road, Phoenix, AZ 85006.

Nature of Decision To Be Made: The Forest Supervisors are jointly responsible for deciding whether or not to salvage dead trees and if so, where and to what extent it will occur; how to stabilize watersheds and what treatments will be used; what repairs or treatments of existing system roads would occur; and which roads will be closed and obliterated, if any. They will also determine what treatments, if any, will be implemented to mitigate further damages to threatened and sensitive species habitats and to fisheries. The Supervisors may decide to select the proposed action, take no action or select another alternative to the proposed action.

Scoping Process: A detailed scoping and public involvement plan has been developed. An interdisciplinary team has been selected and began work August 5, 2002 to do the environmental analysis, prepare and accomplish scoping, and public involvement activities. Comments on the nature and timing of scoping and public participation activities would be beneficial to the team in updating the scoping plan. Additional public notice will be given of specific planned activities when the scoping and public involvement plan is completed.

On August 26, 2002, scoping letters were sent to over 325 organizations, Tribes, agencies and individuals. Responses ranged from total support to total opposition of the proposed action. It was determined that additional scoping was needed and an EIS be prepared.

Comment Requested: This notice of intent initiates the scoping process which guides the development of the environmental impact statement. Comments are specifically requested for the proposed action and any alternatives to the proposed action that should be considered. Comments on the proposal are most useful if they pertain directly to the project area and are as site specific as possible. Comments citing scientific reports or literature should address how that research specifically applies to this project.

Early Notice of Importance of Public Participation in Subsequent Environmental Review: A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also environmental objections that could be raised at the draft environmental impact statement stage but that are not raised until after completion of the final environmental impact statement may be waived or dismissed by the courts. City of Angoon v. Hodel, 803 F. 2d 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)
Dated: September 19, 2002.
John C. Bedell,
Forest Supervisor, Apache-Sitgreaves National Forest.
Dated: September 20, 2002.
Thomas J. Klabunde,
Acting Forest Supervisor, Tonto National Forest.

[FR Doc. 02-24480 Filed 9-25-02; 8:45 am]

BILLING CODE 3410-11-M